DEPARTMENT OF VETERANS AFFAIRS

Advisory Committee on Structural Safety of Department of Veterans Affairs Facilities, Notice of Meeting

The Department of Veterans Affairs (VA) gives notice under the Federal Advisory Committee Act (5 U.S.C. App. 2) that a meeting of the Advisory Committee on Structural Safety of Department of Veterans Affairs Facilities will be held on April 25-26, 2013, in Room 6W405, 425 I Street NW., Washington, DC. The sessions will be from 9 a.m. until 5 p.m. on April 25 and from 8:30 a.m. until 12:30 p.m. on April 26. The meeting is open to the public.

The purpose of the Committee is to advise the Secretary of Veterans Affairs on matters of structural safety in the construction and remodeling of VA facilities and to recommend standards for use by VA in the construction and alteration of its facilities.

On April 25, the Committee will review developments in the fields of fire safety issues and structural design as they relate to seismic and other natural hazards impact on the safety of buildings. On April 26, the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be sent to Krishna K. Banga, Senior Structural Engineer, Facilities Standards Service, Office of Construction and Facilities Management (003C2B), Department of Veterans Affairs, 810 Vermont Avenue NW., Washington, DC 20420, or emailed at Krishna.banga@va.gov. Those wishing to attend or seeking additional information should contact Mr. Banga at (202) 632-4694.

Dated: April 3, 2013.
By Direction of the Secretary.
Vivian Drake,
Committee Management Officer.

Department of Veterans Affairs

Advisory Committee on Structural Safety of VA Facilities

Workshop: April 25, 2013: 9:00 a.m. to 5:00 p.m. Room 6W.405, 425 I Street NW., Washington, DC 20001

Members:

Mr. Chris D. Poland, SE., Chair

Dr. Gregory G. Deierlein, PE

Mr. B. Todd Gritch, FAIA, CBO, FACHA

Mr. William E. Koffel, PE

Dr. Lelio H. Mejia, PE

VA Staff:

Lloyd H. Siegel, FAIA

Donald L. Myers, AIA

Krishna Banga, PE

Asok Ghosh, Ph.D., PE

Jonathan Gurland, Esq.

Tesfaye Guttema, Ph.D., PE

Lawanda Jones, Prog. Spl.

. David Klein, PE

Fred Lau, PE

Workshop Agenda:

• Greetings by Mr. Lloyd H. Siegel and the Chair, Mr. Chris D. Poland—09:00 a.m.

• Ethics & Financial Disclosure—Jonathan Gurland, General Counsel—09:15 a.m.

• Members' travel related matters—Ms. Lawanda Jones—09:45 a.m.

• General business, including review and discussions of “Resolutions” of May 13, 2011, and December 11, 2012 (Tele-Conf.) meetings—10:00 a.m.

• Break for lunch—12:00 p.m.

• Structural and Fire-Safety sub-groups break out (FSG in Room TBD) for detailed discussion of specific items listed in April 26, 2013, Meeting agenda—01:00 p.m.

• Re-group all members in Room 6W.405 for exchange of discussions by sub-groups—02:30 p.m.

• New Business—03:30 p.m.

• Discuss strategy for April 26, 2013, meeting—04:00 p.m.

• ADJOURN—05:00 p.m.

Department of Veterans Affairs

Advisory Committee on Structural Safety of VA Facilities

Annual Meeting: April 26, 2013: 8:30 a.m. to 12:30 p.m. Room 6W.405, 425 I Street NW., Washington, DC 20001

Members:

Mr. Chris D. Poland, SE., Chair

Dr. Gregory G. Deierlein, PE

Mr. B. Todd Gritch, FAIA, CBO, FACHA

Mr. William E. Koffel, PE

Dr. Lelio H. Mejia, PE

Meeting Agenda:

1. Welcome & Remarks by High Level VA Official

2. Introductory remarks by Chair, Mr. Chris D. Poland

3. Issues from May 13, 2011, and December 11, 2012 (Tele Conference) Meetings:

(a) Response to Committee resolutions—Asok Ghosh, Fred Lau, Krishna Banga

(b) Bracing of non-structural elements in buildings located in moderate low seismic zones (Revise section 4.0 to include exemption of non-structural elements in buildings located in moderate low and low seismicity, as prescribed in section 3.7)—Asok Ghosh

(c) Inspection of Facades update—Fred Lau

(d) Status of Physical Security Design Manual Update—Fred Lau

(e) Fire Protection of steel columns in interstitial space of VA Building System—David Klein

(f) Progress Report on Installation of multi-channel seismic instruments installed by USGS in VA building—Krishna Banga

(g) Update on Shake Cast—Krishna Banga

5. New Business

(a) Revise H-18-8 to include:

○ Seismic instrumentation in VA buildings located in moderate high and high seismic zones—Asok Ghosh; and

○ Application of Viscous Dampers for seismic retrofit of existing buildings—Krishna Banga

(a) Fire Safety Issues—David Klein

6. Assignment of new activities

7. Date of next meeting

Adjourn

[FR Doc. 2013-08144 Filed 4-8-13; 8:45 am]

BILLING CODE P